NATIONAL SCIENCE FOUNDATION

DOE/NSF Nuclear Science Advisory Committee; Notice of Meeting

In accordance with the Federal Advisory Committee Act (Pub. L. 92-463, as amended), the National Science Foundation announces the following meeting.

Name: DOE/NSF Nuclear Science Advisory Committee (1176).

Date and Time: Monday, Jan. 14, 2002 8 a.m.-6 p.m.; Tuesday, Jan. 15, 2002; 8 a.m.-6 p.m.

Place: Rm 585-II 4201 Wilson Blvd., Arlington, VA 22230.

Contact Person: Dr. Bradley D. Keister, Program Director for Nuclear Physics, National Science Foundation, 4201 Wilson Blvd., Arlington, VA 22230. Telephone (703) 292-7380.

Purpose of Meeting: To provide advice and recommendations concerning the scientific programs of the NSF and DOE in the area of basic nuclear physics research.

Dated: December 19, 2001.
Susanne Bolton,
Committee Management Officer.

[FR Doc. 01-31640 Filed 12-21-01; 8:45 am]

BILLING CODE 7555-01-M